DEPARTMENT OF TRANSPORTATION

Federal Motor Carrier Safety Administration

Informal Hearing Implementation Process

AGENCY: Federal Motor Carrier Safety Administration (FMCSA), DOT.

ACTION: Notice.

SUMMARY: The Federal Motor Carrier Safety Administration's (FMCSA) final rule revising 49 CFR part 386, “Rules of Practice for Motor Carrier, Broker, Freight Forwarder, and Hazardous Materials Proceedings” (Rules of Practice), published on May 18, 2005, became effective on November 14, 2005. As revised, the Rules of Practice permit a respondent in a civil penalty proceeding to request an informal hearing as an alternative to either a request for a formal hearing or a request to submit written evidence without a hearing. The Rules of Practice, however, do not prescribe specific procedures for conducting informal hearings.

As the informal hearing process is a new alternative for motor carriers, FMCSA will implement this alternative in two phases. This approach allows FMCSA to carefully evaluate and refine, as necessary, how the informal hearing process is conducted.

During the first phase of implementation, FMCSA will only consider requests for an informal hearing from respondents with a principal place of business within the FMCSA Midwest Service Center's geographical area. The Midwest Service Center's geographical area encompasses the States of Illinois, Indiana, Iowa, Kansas, Michigan, Minnesota, Missouri, Nebraska, Ohio and Wisconsin. The second phase, nationwide implementation, will begin within one year of the effective date of the Rules of Practice. FMCSA will publish a notice of its nationwide implementation in the Federal Register.

FMCSA will consider any request for an informal hearing received by FMCSA before the publication date of this notice during the first phase of implementation, regardless of the location of respondent's principal place of business.

When an informal hearing request is granted, the hearing officer will provide written information to each respondent about the procedures that will govern the hearing.

DATES: The first phase will begin on March 17, 2006 and will end September 18, 2006. The second phase will begin by November 14, 2006.

Issued on: March 13, 2006.
Annette M. Sandberg,
Administrator.

[FR Doc. E6-3895 Filed 3-16-06; 8:45 am]

BILLING CODE 4910-EX-P